DEPARTMENT OF LABOR

Office of the Secretary

Submission for OMB Review; Comment Request

August 15, 2002.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor, Darrin King (202) 693-4129 or King-Darrin@dol.gov.

Comments should be sent to Office of Information and Regulatory Affairs, Attn: OMB Desk Officer for BLS, DM, ESA, ETA, MSHA, OSHA, PWBA, or VETS, Office of Management and Budget, Room 10235, Washington, DC 20503 ({202} 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Title: PY 2002 Workforce Information Grant Plan and Annual Performance Report.

OMB Number: 1205-0417.

Frequency: Annually.

Affected Public: State, Local, or Tribal Government; Federal Government.

Number of Respondents: 54.

Estimated Time Per respondent: The Annual Plan is 65 hours, the Customer Satisfaction information is 642 hours, and the Annual Report is 57 hours.

Total Burden Hours: 41,256 hours.

Total Annualized capital/startup costs: $0.

Total annual costs (operating/maintaining systems or purchasing services): $0.

Description: The Department of Labor is requesting OMB approval to require States to submit additional narrative in the annual grant plan, to assess customer satisfaction with State workforce information and to include summary of the results of customer satisfaction assessment in an annual performance report, as conditions for receiving Workforce Information Core Products and Services reimbursable grants.

Ira L. Mills,
Departmental Clearance Officer.

[FR Doc. 02-21406 Filed 8-21-02; 8:45 am]

BILLING CODE 4510-30-M